DEPARTMENT OF EDUCATION

Final Priority; Safe and Healthy Students Discretionary Grant Programs

AGENCY: Office of Elementary and Secondary Education, Department of Education.

ACTION: Notice.

Overview Information

Final Priority; Safe and Healthy Students Discretionary Grant Programs.

Catalog of Federal Domestic Assistance (CFDA) Numbers: 84.184A, 84.215M, 84.184J, 84.184L, 84.215H, 84.215E.

SUMMARY: The Assistant Secretary for Elementary and Secondary Education announces a competitive preference priority for the following discretionary grant programs (Safe and Healthy Students (SHS) Discretionary Grant Programs) administered by the Office of Elementary and Secondary Education's Office of Safe and Healthy Students (OSHS):

Grants to Reduce Alcohol Abuse (CFDA No. 84.184A).

Grants for the Integration of Schools and Mental Health Systems (CFDA No. 84.215M).

Safe Schools/Healthy Students (CFDA Nos. 84.184J, 84.184L).

Foundations for Learning (CFDA No. 84.215H).

Elementary and Secondary School Counseling (CFDA No. 84.215E).

The Department may use this competitive preference priority for competitions under the SHS Discretionary Grant Programs in fiscal year (FY) 2012 and subsequent years, contingent upon funding for these programs. The Department takes this action to align the SHS Discretionary Grant Programs with identified needs of American Indian and Alaska Native (AI/AN) youths who are members of federally recognized tribes. The Department intends this competitive preference priority to enhance the ability of applicants serving tribal communities to address the substance abuse and mental health crises that affect AI/AN students.

DATES: Effective Date: This priority is effective January 17, 2012.

FOR FURTHER INFORMATION CONTACT: Donald Yu, U.S. Department of Education, 400 Maryland Avenue SW., room 6E308, Washington, DC 20202-6450. Telephone (202) 205-4499 or by email: donald.yu@ed.gov.

If you use a telecommunications device for the deaf (TDD), call the Federal Relay Service, toll free, at 1-(800) 877-8339.

SUPPLEMENTARY INFORMATION:

Purpose of Programs: The Grants to Reduce Alcohol Abuse program (CFDA No. 84.184A) assists local educational agencies (LEAs) in the development and implementation of innovative and effective alcohol abuse prevention programs for secondary school students.

The Grants for the Integration of Schools and Mental Health Systems program (CFDA No. 84.215M) provides grants to State educational agencies (SEAs), LEAs, and Indian tribes for the purpose of increasing student access to quality mental health care by developing innovative programs that link school systems with local mental health systems.

The Safe Schools/Healthy Students program (CFDA Nos. 84.184J, 84.184L) provides grants to support LEAs in the development of communitywide approaches to creating safe and drug-free schools and promoting healthy childhood development. These approaches are intended to prevent violence and the illegal use of drugs and to promote safety and discipline.

The Foundations for Learning program (CFDA No. 84.215H) provides assistance to help eligible children become ready for school.

The Elementary and Secondary School Counseling program (CFDA No. 84.215E) provides funding to LEAs to establish or expand elementary school counseling programs and, if the appropriation exceeds $40 million in any fiscal year, the program may be expanded to secondary schools.

Program Authority: 20 U.S.C. 1221e-3; 20 U.S.C. 7139; 20 U.S.C. 7269; 20 U.S.C. 7131; 20 U.S.C. 7269a; 20 U.S.C. 7245.

Applicable Program Regulations: 34 CFR part 299.

We published a notice of proposed priority for these programs in the Federal Register on March 15, 2011 (76 FR 14001). That notice contained background information and our reasons for proposing the particular priority. The notice of proposed priority also referred to the Department's Office of Safe and Drug-Free Schools. That office has been renamed the Office of Safe and Healthy Students and is now a component within the Department's Office of Elementary and Secondary Education.

There are no differences between the proposed priority and this final priority.

Public Comment: In response to our invitation in the notice of proposed priority, two parties submitted comments on the proposed priority.

Generally, we do not address technical and other minor changes. In addition, we do not address general comments that raised concerns not directly related to the proposed priority.

Analysis of Comments and Changes: An analysis of the comments and of any changes in the priority since publication of the notice of proposed priority follows.

Comment: Two commenters agreed with the reasons we provided for proposing the priority. Specifically, the commenters stated that there are many cases of emotional and behavioral problems, substance abuse, and violence in their schools and that this priority would help address these problems.

Discussion: We appreciate the commenters' support. We believe the competitive preference priority will encourage eligible applicants serving tribal communities to address the substance abuse and mental health crises that affect AI/AN students.

Changes: None.

Comment: One commenter recommended that the Department award priority points to applications from small rural schools in order to level the playing field in meeting the needs of AI/AN students.

Discussion: We appreciate the commenter's recommendation; however, we have a priority for improving achievement and high school graduation rates of rural and high-needs students that is part of the Secretary's Supplemental Priorities published in the Federal Register on December 15, 2010 (75 FR 78486) and corrected on May 12, 2011 (76 FR 27637). We may use that priority in our competitions in order to address the needs of students attending rural schools. The purpose of the final priority contained in this notice is to meet the unique needs of AI/AN students residing on Indian lands.

Changes: None.

Final Priority

Projects that are proposed by any eligible entity serving students residing on “Indian lands” as that term is defined by section 8013 of the Elementary and Secondary Education Act of 1965, as amended (20 U.S.C. 7713(7)). The eligible entity must be the only applicant or the lead applicant in a consortium of eligible entities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) Awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing or using additional priorities, requirements, definitions, or selection criteria, subject to meeting applicable rulemaking requirements.

Note: This notice does not solicit applications. In any year in which we choose to use this priority, we will invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering the SHS Discretionary Grant Programs effectively and efficiently.

In assessing the potential costs and benefits—both quantitative and qualitative—of this final regulatory action, we have determined that the benefits of the final priority justify the costs.

We have also determined that this final regulatory action does not unduly interfere with State, local, and tribal governments in the exercise of their governmental functions.

We summarized the costs and benefits of this regulatory action in the notice of proposed priority.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: December 13, 2011.
Michael Yudin,
Acting Assistant Secretary for Elementary and Secondary Education.

[FR Doc. 2011-32249 Filed 12-15-11; 8:45 am]

BILLING CODE 4000-01-P